DEPARTMENT OF TRANSPORTATION

Federal Aviation Administration

[Summary Notice No. PE-2001-54]

Petitions for Exemption, Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on July 20, 2001.
Donald P. Byrne,
Assistant Chief Counsel for Regulations.

Dispositions of Petitions

Docket No.: FAA-2001-9101.

Petitioner: Associated Air Center.

Section of 14 CFR Affected: 14 CFR 25.813(e).

Description of Relief Sought/Disposition: To permit installation of interior doors between passenger compartments on the Boeing Model 737-2H4 airplane. Grant, 07/03/2001, Exemption No. 7561.

Docket No.: FAA-2000-8344.

Petitioner: Mr. Rudy E. Mack, Sr.

Section of 14 CFR Affected: 14 CFR 121.383(c).

Description of Relief Sought/Disposition: To permit Mr. Mack to act as a pilot in operations conducted under part 121 after reaching his 60th birthday. Denial, 06/29/2001, Exemption No. 7556.

Docket No.: FAA-2001-9115.

Petitioner: Mr. Pedro Dove.

Section of 14 CFR Affected: 14 CFR 121.383(c).

Description of Relief Sought/Disposition: To permit Mr. Dove to act as a pilot in operations conducted under part 121 after reaching his 60th birthday. Denial, 06/29/2001, Exemption No. 7555.

Docket No.: FAA-2001-9283.

Petitioner: Atlantic Coast Airlines.

Section of 14 CFR Affected: 14 CFR 121.411, 121.413, 121.434, 121.440, and 121.441.

Description of Relief Sought/Disposition: To permit ACA and its pilots to count certain part 121 training, checking, and experience acquired or accomplished for pilots and check airmen on the Fairchild-Dornier 328-300Jet while those pilots or check airmen were employed by Atlantic Coast Jet, Inc., as if that training, checking, and experience were accomplished at ACA. Grant, 06/29/2001, Exemption No. 7539A.

Docket No.: FAA-2001-8862 (previously Docket No. 22706).

Petitioner: Bankair, Inc.

Section of 14 CFR Affected: 14 CFR 135.255(e)(1).

Description of Relief Sought/Disposition: To permit Bankair pilots to operate Bankair aircraft at any U.S. military base that has adopted the criteria contained in the U.S. Standard for Terminal Instrument Procedures used for determining lower-than-standard departure minimums using takeoff visibility minimum that are less than 1 mile and equal to or greater than the landing visibility minimums established for those airfields. Grant, 06/29/2001, Exemption No. 6661B.

Docket No.: FAA-2001-8939 (previously Docket No. 23477).

Petitioner: Experimental Aircraft Association.

Section of 14 CFR Affected: 14 CFR 103.1(a) and (e)(1) through (e)(4).

Description of Relief Sought/Disposition: To permit EAA to permit individuals authorized by EAA to give instruction in powered ultralights that have a maximum empty weight of not more than 496 pounds, have a maximum fuel capacity of not more than 10 U.S. gallons, are not capable of more than 75 knots calibrated airspeed at full power in level flight, and have a power-off stall speed that does not exceed 35 knots calibrated airspeed. Grant, 06/29/2001, Exemption No. 3784J.

Docket No.: FAA-2000-8086.

Petitioner: Frontier Flying Service, Inc.

Section of 14 CFR Affected: 14 CFR 119.67(a)(3)(i).

Description of Relief Sought/Disposition: To permit Mr. Robert Hajdukovich to serve as Director of Operations of FFS without having at least 3 years experience, within the last 6 years, as pilot in command of a large airplane operated under 14 CFR part 121 or part 135. Grant, 06/29/2001, Exemption No. 7557.

Docket No.: FAA-2001-9379 (previously Docket No. 22451).

Petitioner: Air Transportation Association of America.

Section of 14 CFR Affected: 14 CFR 121.613, 121.619(a), and 121.625.

Description of Relief Sought/Disposition: To permit ATA-member airlines and other similarly situated part 121 operators to continue to dispatch airplanes under instrument flight rules when conditional language in a one-time increment of the weather forecast states that the weather at the destination airport, alternate airport, or both airports could be below the authorized weather minimums when other time increments of the weather forecast state that weather conditions will be at or above the authorized weather minimums. Grant, 06/29/2001, Exemption No. 3585M.

[FR Doc. 01-18545 Filed 7-24-01; 8:45 am]

BILLING CODE 4910-13-M